DEPARTMENT OF LABOR

Employment and Training Administration

[TA-W-38,850]

Perfect Fit Industries, Richfield, NC; Notice of Termination of Investigation

Pursuant to section 221 of the Trade Act of 1974, an investigation was initiated on March 19, 2001, in response to a worker petition which was filed by the company on behalf of its workers at Perfect Fit Industries, Richfield, North Carolina. The workers produce comforters, bedspreads, and bedding accessories.

The petitioner has requested that the petition be withdrawn. Consequently, further investigation in this case would serve no purpose, and the investigation has been terminated.

Signed at Washington, DC, this 20th day of March, 2001.
Linda G. Poole,
Certifying Officer, Division of Trade Adjustment Assistance.

[FR Doc. 01-8335 Filed 4-4-01; 8:45 am]

BILLING CODE 4510-30-M